DEPARTMENT OF COMMERCE

National Oceanic and Atmospheric Administration

[I.D. 120700C]

Pacific Fishery Management Council; Public Meeting

AGENCY: National Marine Fisheries Service (NMFS), National Oceanic and Atmospheric Administration (NOAA), Commerce.

ACTION: Notice of public meetings.

SUMMARY: The Pacific Fishery Management Council's (Council) Highly Migratory Species Plan Development Team (HMSPDT) and Highly Migratory Species Advisory Subpanel (HMSAS) will hold work sessions, which are open to the public.

DATES: The HMSPDT and HMSAS will meet jointly on Monday, January 8, 2001, 8 a.m. to 5 p.m.; Tuesday, January 9, 2001, 8 a.m. to 5 p.m.; and Wednesday, January 10, 2001, 8 a.m. to 5 p.m. The HMSPDT will convene for a work session on Thursday, January 11, 2001, 8 a.m. to 5 p.m. and Friday, January 12, 2001, 8 a.m. until business for the day is completed.

ADDRESSES: The work sessions will be held in the large conference room at NMFS Southwest Fisheries Science Center, 8604 La Jolla Shores Drive, Room D-203, La Jolla, CA 92038-0271; telephone: (619) 546-7000.

Council address: Pacific Fishery Management Council, 2130 SW Fifth Avenue, Suite 224, Portland, OR 97201.

FOR FURTHER INFORMATION CONTACT: Dan Waldeck, Pacific Fishery Management Council; (503) 326-6352.

SUPPLEMENTARY INFORMATION: The primary purpose of the work sessions is to review and revise sections of the draft fishery management plan (FMP) for highly migratory species (HMS); the draft FMP is scheduled for review by the Council in March 2001.

The proposed FMP and its associated regulatory analyses would be the Council’s fourth FMP for the exclusive economic zone off the West Coast. Development of the FMP is timely, considering the new mandates under the Magnuson-Stevens Act, efforts by the United Nations to promote conservation and management of HMS resources through domestic and international programs, and the increased scope of international activities related to HMS fisheries in the eastern Pacific Ocean.

Although non-emergency issues not contained in the HMSPDT/HMSAS meeting agenda may come before the HMSPDT and/or HMSAS for discussion, those issues may not be the subject of formal HMSPDT nor HMSAS action during these meetings. HMSPDT and/or HMSAS action will be restricted to those issues specifically listed in this document and any issues arising after publication of this document that require emergency action under section 305(c) of the Magnuson-Stevens Act, provided the public has been notified of the HMSPDT's and/or HMSAS's intent to take final action to address the emergency.

Special Accommodations

The meeting is physically accessible to people with disabilities. Requests for sign language interpretation or other auxiliary aids should be directed to Ms. Carolyn Porter at (503) 326-6352 at least 5 days prior to the meeting date.

Dated: December 11, 2000.
Richard W. Surdi,
Acting Director, Office of Sustainable Fisheries, National Marine Fisheries Service.

[FR Doc. 00-32053 Filed 12-15-00; 8:45 am]

BILLING CODE: 3510-22 -S